TENNESSEE VALLEY AUTHORITY

Meetings; Sunshine Act

Agency Holding the Meeting: Tennessee Valley Authority (Meeting No. 08-02).

Time and Date: 10 a.m. EDT, April 3, 2008; TVA West Tower Auditorium, 400 West Summit Hill Drive, Knoxville, Tennessee.

Agenda

Old Business

Approval of minutes of February 15, 2008, Board Meeting.

New Business

1. Chairman's Report.

2. President's Report.

3. Report of the Finance, Strategy, and Rates Committee.

A. Customer issues.

i. Renewal power supply contract for a directly-served customer.

ii. Summer 2008 pilot products.

4. Report of the Operations, Environment, and Safety Committee.

A. Specific capital expenditure project authorizations.

i. Gleason combined cycle conversion.

ii. Clean air project.

B. Draft environmental policy presentation.

5. Report of the Human Resources Committee.

6. Report of the Community Relations Committee.

A. Public auction of 35 acres, more or less, of property in Tishomingo County, Mississippi.

B. Recreation easement of 10.7 acres, more or less, of property on Tellico Reservoir.

C. Public recreation easement of 10 acres, more or less, of property on Tellico Reservoir.

D. Land use requests for the town of Vonore and Monroe County.

7. Report of the Corporate Governance Committee.

A. Bylaws.

8. Report of the Ad Hoc Committee on Energy Efficiency, Demand Response, and Renewable Energy.

A. Draft Energy Efficiency and Demand Response plan presentation.

B. Draft Renewable Energy plan presentation.

For more information: Please call TVA Media Relations at (865) 632-6000, Knoxville, Tennessee. People who plan to attend the meeting and have special needs should call (865) 632-6000. Anyone who wishes to comment on any of the agenda in writing may send their comments to: TVA Board of Directors, Board Agenda Comments, 400 West Summit Hill Drive, Knoxville, Tennessee 37902.

Dated: March 27, 2008.
Maureen H. Dunn,
General Counsel and Secretary.

[FR Doc. E8-6780 Filed 4-1-08; 8:45 am]

BILLING CODE 8120-08-P